DEPARTMENT OF COMMERCE

International Trade Administration

[A-583-849]

Steel Wire Garment Hangers From Taiwan: Antidumping Duty Order

AGENCY: Import Administration, International Trade Administration, Department of Commerce.

DATES: Effective Date: December 10, 2012.

SUMMARY: Based on affirmative final determinations by the Department of Commerce (the “Department”) and the International Trade Commission (the “ITC”), the Department is issuing an antidumping duty order on steel wire garment hangers from Taiwan.

FOR FURTHER INFORMATION CONTACT: Paul Walker, AD/CVD Operations, Office 9, Import Administration, International Trade Administration, U.S. Department of Commerce, 14th Street and Constitution Avenue NW., Washington, DC 20230; telephone 202.482.0413.

SUPPLEMENTARY INFORMATION:

Background

In accordance with sections 735(d) and 777(i)(1) of the Tariff Act of 1930, as amended (the “Act”), on October 15, 2012, the Department published the Final Determination of sales at less than fair value in the antidumping duty investigation of steel wire garment hangers from Taiwan.¹ On November 29, 2012, the ITC notified the Department of its affirmative determination that an industry in the United States is materially injured within the meaning of section 735(b)(1)(A)(i) of the Act by reason of less-than-fair-value imports of steel wire garment hangers from Taiwan.² Pursuant to section 736(a) of the Act, the Department is publishing an antidumping duty order on the subject merchandise.

¹ See Steel Wire Garment Hangers from Taiwan: Final Determination of Sales at Less Than Fair Value, 77 FR 62492 (October 15, 2012) (“Final Determination”).

² See Steel Wire Garment Hangers from Taiwan (Investigation No. 731-TA-1197 (Final), USITC Publication 4363, November 2012).

Scope of the Order

The merchandise subject to this order are steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers.

Specifically excluded from the scope of the order are (a) wooden, plastic, and other garment hangers that are not made of steel wire; (b) steel wire garment hangers with swivel hooks; (c) steel wire garment hangers with clips permanently affixed; and (d) chrome plated steel wire garment hangers with a diameter of 3.4 mm or greater.

The products subject to the order are currently classified under U.S. Harmonized Tariff Schedule (“HTSUS”) subheadings 7326.20.0020 and 7323.99.9080. Although the HTSUS subheadings are provided for convenience and customs purposes, the written description of the merchandise is dispositive.

Antidumping Duty Order

As stated above, on November 29, 2012, in accordance with section 735(d) of the Act, the ITC notified the Department of its final determination in this investigation, in which it found material injury with respect to steel wire garment hangers from Taiwan.³ Because the ITC determined that imports steel wire garment hangers from Taiwan are materially injuring a U.S. industry, all unliquidated entries of such merchandise from Taiwan, entered or withdrawn from warehouse, are subject to the assessment of antidumping duties.

³ Id.

Therefore, in accordance with section 736(a)(1) of the Act, the Department will direct U.S. Customs and Border Protection (“CBP”) to assess, upon further instruction by the Department, antidumping duties equal to the amounts listed below for all relevant entries of steel wire garment hangers from Taiwan. These antidumping duties will be assessed on unliquidated entries of steel wire garment hangers from Taiwan entered, or withdrawn from warehouse, for consumption on or after August 2, 2012, the date of publication of the Preliminary Determination.⁴

⁴ See Steel Wire Garment Hangers from Taiwan: Preliminary Determination of Sales at Less than Fair Value, 77 FR 46055 (August 2, 2012) (“Preliminary Determination”).

Continuation of Suspension of Liquidation

In accordance with section 735(c)(1)(B) of the Act, we will instruct CBP to continue to suspend liquidation on all entries of steel wire garment hangers from Taiwan. We will also instruct CBP to require cash deposits equal to the amounts as indicated below. These instructions suspending liquidation will remain in effect until further notice.

Accordingly, effective on the date of publication of the ITC's final affirmative injury determination, CBP will require, at the same time as importers would normally deposit estimated duties on this subject merchandise, a cash deposit equal to the estimated weighted-average antidumping duty margins listed below.⁵

⁵ See section 736(a)(3) of the Act.

Provisional Measures

Section 733(d) of the Act states that instructions issued pursuant to an affirmative preliminary determination may not remain in effect for more than four months except where exporters representing a significant proportion of exports of the subject merchandise request the Department to extend that four-month period to no more than six months. In the underlying investigation, the Department published the Preliminary Determination on August 2, 2012, and no exporters representing a significant proportion of exports of the subject merchandise requested that the Department extend the four-month period to six months. Therefore, the four-month period beginning on the date of the publication of the Preliminary Determination ended on November 30, 2012. Furthermore, section 737(b) of the Act states that definitive duties are to begin on the date of publication of the ITC's final injury determination.

Therefore, in accordance with section 733(d) of the Act and our practice, we will instruct CBP to terminate the suspension of liquidation and to liquidate, without regard to antidumping duties, unliquidated entries of steel wire garment hangers from Taiwan entered, or withdrawn from warehouse, for consumption after November 30, 2012, the date provisional measures expired, until and through the day preceding the date of publication of the ITC's final injury determination in the Federal Register. Suspension of liquidation will resume on the date of publication of the ITC's final injury determination in the Federal Register.

The weighted-average dumping margins are as follows:

Manufacturer/exporter | Margin (percent)
Golden Canyon Ltd | 69.98
Taiwan Hanger Manufacturing Co., Ltd | 125.43
All Others | 69.98

This notice constitutes the antidumping duty order with respect to steel wire garment hangers from Taiwan pursuant to section 736(a) of the Act. Interested parties can find an updated list of antidumping duty orders currently in effect at http://ia.ita.doc.gov/stats/iastats1.html.

This order is published in accordance with section 736(a) of the Act and section 351.211 of the Department's regulations.

Dated: December 4, 2012.
Paul Piquado,
Assistant Secretary for Import Administration.

[FR Doc. 2012-29765 Filed 12-7-12; 8:45 am]

BILLING CODE 3510-DS-P